DEPARTMENT OF THE INTERIOR

National Park Service

[NPS-IMR-YELL-33194; PPWONRADE2, PMP00EI05.YP0000]

Notice of Intent To Prepare an Environmental Impact Statement for a Bison Management Plan for Yellowstone National Park, Idaho, Montana, Wyoming

AGENCY: National Park Service, Interior.

ACTION: Notice of intent to prepare an environmental impact statement.

SUMMARY: The National Park Service is preparing an Environmental Impact Statement in accordance with the National Environmental Policy Act (NEPA) for a Bison Management Plan for Yellowstone National Park.

DATES: The National Park Service requests comments concerning the scope of the analysis, and identification of potential alternatives, information, and analyses relevant to the planning process. All comments must be received or postmarked by February 28, 2022.

ADDRESSES: Information will be available for public review and comment online at https://parkplanning.nps.gov/YellowstonebisonEIS. You may also mail your written comments to the Office of the Superintendent, P.O. Box 168, Yellowstone National Park, WY 82190-0168.

FOR FURTHER INFORMATION CONTACT: Morgan Warthin, Public Affairs Specialist, Yellowstone National Park, 307-344-2010, morgan_warthin@nps.gov. Individuals who use telecommunication devices for the deaf (TDD) may call the Federal Information Relay Service (FIRS) at 1-800-877-8339 between 8 a.m. and 8 p.m., Eastern Time, Monday through Friday.

SUPPLEMENTARY INFORMATION:

Scope and Purpose and Need

The plan will focus on actions the National Park Service (NPS) may take to manage bison within Yellowstone National Park (the park) and consolidate various actions and environmental compliance analyses conducted over the past two decades into a contemporary plan. Other tribal and governmental agencies play important roles in bison management outside of the park, and the NPS intends to continue to work cooperatively with these groups as appropriate.

The purpose of the plan is to preserve an ecologically sustainable population of wild, migratory bison while continuing to work with partners to address brucellosis transmission, human safety, property damage, and support tribal hunting outside of the park.

Action is needed because new information obtained since the approval of the Interagency Bison Management Plan (IBMP) in 2000 indicates some of the premises regarding disease transmission in the initial plan were incorrect or changed over time. In addition, there are fewer cattle near the park and Federal and State disease regulators have taken steps to lessen the economic impacts of brucellosis outbreaks in cattle. Since 2006, seven tribes have hunted bison on national forest lands adjacent to the park pursuant to long-standing treaties with the Federal Government.

Preliminary Alternatives Under Consideration

The NPS's proposed action is to prepare and implement a new plan that provides Yellowstone National Park with tools to manage bison that reflect the best available information and current circumstances on the ground. The alternatives have been developed by taking into consideration management actions that could occur on lands outside the park in Montana. The alternatives describe external actions that could enhance management efforts inside the park, while acknowledging the NPS does not have jurisdiction or control over actions beyond the park boundary such as hunting, construction of capture or quarantine facilities, or tolerance for bison. Descriptions of external actions is not an endorsement or commitment from partners.

Actions Common to All Alternatives

Beginning in 2014, twenty-eight First Nations and Tribes signed The Buffalo: A Treaty of Cooperation, Renewal and Restoration to restore buffalo to their rightful place in the First Nations' and Tribes' respective cultures and territories. In 2016, these Buffalo Nations provided the Secretary of the Interior with a resolution supporting the Bison Conservation and Transfer Program (BCTP) in Yellowstone National Park. In 2020, they also conveyed their support for the Department of the Interior's Bison Conservation Initiative and offered to collaborate with the Department and others through shared stewardship to bring this vision into reality. The NPS will continue to support the 2014 Buffalo Treaty and 2020 Bison Conservation Initiative by engaging Buffalo Nations associated with Yellowstone bison to explore ways to increase the efficiency and safety of hunting outside the park and increase the restoration of brucellosis-free bison to tribal and public lands. Other Federal and State IBMP partners would inform this vision with the U.S. Forest Service and Montana Fish, Wildlife & Parks participating in consultations about hunting and the Animal and Plant Health Inspection Service (APHIS) and Montana Department of Livestock participating in consultations about the BCTP.

Research by park scientists and collaborators has determined there is sufficient forage in the park to sustain the numbers of bison described in the preliminary alternatives. They used state-of-the-art technology to analyze satellite images and conservatively estimate the amount of plant forage produced in non-forested areas. They determined that all the grazers combined, including bison, elk, pronghorn, mule deer, and bighorn sheep, would not consume more than half of the plant material produced during most years. There is considerable complexity around these estimates, however, due to large variations in weather and grass production from year-to-year. As a result, scientists will continue to monitor and adapt these estimates.

Adaptive management is a key concept that would be incorporated into all the preliminary alternatives. Under adaptive management, biologists establish desired conditions, evaluate current conditions, identify undesired trends, implement management actions, monitor progress towards desired conditions, and adjust actions to improve progress. The NPS and other Federal and State agencies and tribes involved with the IBMP have used this process to inform decision-making and adjust bison management. The NPS would continue to implement monitoring and research to obtain timely information and adjust conservation and management activities.

Operations plans would continue to serve as the main mechanism for describing, implementing, and adjusting commitments and agreements for the cooperative management of Yellowstone bison across jurisdictions. Under each alternative, managers from the NPS would continue to meet with the other Federal, State, and Tribal agencies to coordinate bison management using the existing framework and partnership protocols for the IBMP. The NPS would continue to prepare annual assessments of the status of the bison population and propose adjustments to adaptive management and operations plans based on the selected alternative in the record of decision resulting from this process.

When Yellowstone bison cross the boundary of the park into surrounding states, they are no longer under the jurisdiction of the NPS. Instead, their management is the prerogative of the respective state and the U.S. Forest Service on National Forest System lands. The NPS would continue to work with the State of Montana, Custer Gallatin National Forest, and private landowners to increase tolerance for bison on suitable lands outside the park where a low risk of brucellosis transmission to cattle can be maintained. In addition, the NPS would continue to explore other activities with partners to advance the purpose of this plan, such as construction of additional quarantine facilities, use of temporary trapping facilities near the edge of management (tolerance) areas, and streamlining brucellosis testing protocols and quarantine periods for the BCTP.

Preliminary alternatives being considered are as follows:

Alternative 1—No Action Alternative—Current Management

The NPS would continue to manage bison pursuant to the 2000 IBMP as adaptively adjusted and implemented through consensus decisions and annual operations plans by the agencies involved with bison management. Other members of the IBMP include APHIS, Confederated Salish and Kootenai Tribes of the Flathead Nation, U.S. Forest Service (Custer Gallatin National Forest), InterTribal Buffalo Council, Nez Perce Tribe, and State of Montana (Department of Livestock; Fish, Wildlife & Parks). The NPS would maintain a population range of bison similar to the last two decades (3,500 to 5,000 after calving).

IBMP managers have made consensus decisions about population targets since 2013 that led to a bison population averaging nearly 4,200 at the end of winter and 5,000 animals after calving. Managers agreed to these numbers because of increased tolerance for bison outside the park, balancing hunting outside the park with capturing animals for slaughter inside the park, developing a transfer program to relocate bison to tribes, and continued success limiting bison-related conflicts outside the park. The IBMP partners have 20 years of experience managing bison at higher numbers with no brucellosis transmission to cattle and fewer property and safety conflicts over time. The larger numbers conserved also have supported bison as a meaningful component of the food web influencing energy and nutrient transfer throughout the ecosystem, improved visitor experience by providing an unparalleled opportunity to view large herds of free-roaming bison, and ensured gene flow and conservation of existing genetic diversity.

Under this alternative, bison would be allowed to exit the park into established northern and western management zones in Montana, and numbers and distribution would be regulated by captures for quarantine or shipment to slaughter and public and tribal harvests primarily on national forest lands near the park boundary. The NPS, in consultation with the tribes and informed by other agencies, would adaptively adjust removals and population size based on assessments of the status of the population and bison movements in and outside the park. Within the park, management of bison such as capture, hazing, and quarantine would generally occur near the boundary. However, the NPS may haze bison as necessary outside the park by working with partners to reduce conflicts with cattle, people, and property. Hazing involves moving bison away from an area where they are not wanted such as developed areas, highways, or private property using people on foot, on horseback, or in vehicles. Disease surveillance would continue to be conducted on bison placed in the BCTP and some bison shipped to slaughter or harvested outside the park.

Under this alternative, the NPS would rely substantially on captures of migrating bison at Stephens Creek (inside the northern boundary of the park) and shipments of bison to slaughter to regulate numbers and provide bison to tribes. If space is available, some bison testing negative for previous brucellosis exposure would be placed in quarantine as part of the BCTP to increase the number of live brucellosis-free animals relocated to the Fort Peck Indian Reservation in northeastern Montana and eventually other tribal lands. If space is not available, these bison would be shipped to slaughter. The NPS would continue to work with APHIS and non-governmental organizations to increase capacity in the BCTP and lower the number of transfer-eligible animals sent to slaughter. These efforts would include doubling the size of quarantine pastures in and around Stephens Creek and developing necessary water infrastructure to support this expansion as described in the Finding of No Significant Impact for the park's 2018 Environmental Assessment for Bison Quarantine. The NPS would continue to coordinate captures at Stephens Creek with tribal harvests outside the park to reduce the effects of capture on harvest opportunities and continue discussions with the tribes and other agencies to improve communication, safety, and handling of bison carcasses.

Alternative 2—Enhance Restoration and Tribal Engagement

Bison would be managed within a population range of about 4,500 to 6,000 bison after calving with an emphasis on using the BCTP and tribal hunting outside the park to regulate bison numbers. The NPS may use proactive measures such as low stress hazing of bison toward the park boundary to increase tribal hunting opportunities outside the park. The NPS would reduce shipment to slaughter based on the needs and requests of tribes. The upper limit of the population range in this alternative is somewhat higher than current management under the IBMP over the last decade (Alternative 1). Bison would continue to exit the park into established northern and western management zones and management of bison within the park would be like Alternative 1 regarding criteria used for removals, hazing, and disease surveillance. The BCTP and hunt-trap coordination would continue as in Alternative 1. The NPS may collaborate with interested partners to establish additional quarantine facilities outside the park. As the BCTP expands and hunter harvests increase over a broader area in Montana, the NPS would reduce captures for shipments to slaughter.

Alternative 3—Food-Limited Carrying Capacity

The NPS would rely on natural selection, bison dispersal, and public and tribal harvests in Montana as the primary tools to regulate bison numbers, which would likely range from 5,500 to 8,000 or more bison after calving. Trapping for shipments to slaughter would immediately cease. The NPS would continue captures to maintain the BCTP as in Alternatives 1 and 2. Under this alternative, the NPS expects a large increase in hunting opportunities from increasing population size and the elimination of captures for shipments to slaughter. Substantially larger harvests would have to occur outside the park for this alternative to be effective, which would require public and tribal hunters to allow bison to distribute and hunt them across a larger landscape. If bison numbers approach the estimated food-limited carrying capacity of the park (>8,000 bison), the NPS would reinstitute shipments to slaughter as described for Alternatives 1 and 2. Large captures may occur more frequently as bison numbers approach or exceed carrying capacity. The NPS may haze bison in Yellowstone National Park when necessary to protect people and property. Disease surveillance would be conducted on some harvested bison.

Summary of Expected Impacts

Expected impacts within the park boundary from implementation of NPS bison management actions include: Potential changes in population structure and bison behavior from hazing, culling, and hunting outside the park; maintenance of the ecological role provided by bison (engineering habitats, redistributing nutrients, altering plant growth patterns, improving biodiversity, and providing meat for predators, scavengers and decomposers); potential impacts to human health and safety; potential impacts on vegetation as a result of bison grazing at various population levels; and potential impacts to the visitor experience due to closures and bison management operations in and around the capture and quarantine facilities within the Park.

Expected impacts outside of the park boundary from implementation of NPS bison management actions include potential changes in: Maintaining the low risk of brucellosis spreading from bison to cattle, of which there are no documented cases since the IBMP was implemented in 2000 due to existing mitigation measures; the number of bison available for tribal and public hunting opportunities; the number of conflicts between bison and cattle, people, and property; and the number of brucellosis-free bison available to be sent to other appropriate lands.

Anticipated Permits and Authorizations

The NPS anticipates consulting with the U.S. Fish and Wildlife Service under Section 7 of the Endangered Species Act for potential impacts to threatened and endangered species. The NPS will continue to participate in the IBMP framework and work cooperatively with its partners. the NPS will use and coordinate the NEPA public scoping process to help fulfill the public involvement requirements under the National Historic Preservation Act (54 U.S.C. 306108) as provided in 36 CFR 800.2(d)(3). The information about historic and cultural resources within the area potentially affected by the alternatives will assist the NPS in identifying and evaluating impacts to such resources, and consulting with the State Historic Preservation Officer on the potential for adverse effects.

Schedule for the Decision-Making Process

• Agencies have two years from the date of the issuance of the notice of intent to the date a record of decision is signed to complete an Environmental Impact Statement (EIS) (40 CFR 1501.10).

• The NPS expects to make the Draft EIS available to the public in Fall 2022.

• After public review and comment, the NPS expects to make the Final EIS available to the public in Fall 2023.

• At least 30 days after the Final EIS is available, the record of decision will be completed in accordance with applicable timeframes established in 40 CFR 1506.11.

Public Scoping Process

This notice of intent initiates the scoping process, which guides the development of the EIS. The NPS will host two virtual public scoping meetings. During the virtual public scoping meetings, the NPS will present information pertinent to the EIS for the Bison Management Plan and allow the public to ask questions regarding the scope of issues and alternatives that should be considered when preparing the EIS. While the NPS will not solicit oral comments at these virtual public meetings, written comments may be submitted at any time during the scoping process. See the ADDRESSES section (above) and the Submitting Comments section (below) for more information. Details regarding the exact dates and times of these virtual public scoping meetings will be announced on the project website (https://parkplanning.nps.gov/YellowstonebisonEIS) and through local and regional media. The virtual public scoping meetings will also be announced through email notification, press release, and social media to individuals and organizations.

Reasonable Accommodations

Persons needing reasonable accommodations to attend and participate in the virtual public scoping meetings should contact Yellowstone National Park's Office of Strategic Communications, using one of the methods listed in the FOR FURTHER INFORMATION CONTACT section as soon as possible. To allow sufficient time to process requests, please make contact no later than one week before the desired virtual public meeting.

Request for Identification of Potential Alternatives, Information, and Analyses Relevant to the Planning Process

The NPS requests possible alternatives, information, and analyses from all interested parties. The NPS will consider these comments in developing the Draft EIS. Specifically, the NPS is seeking:

1. Biological information, analyses, and relevant data concerning bison and other wildlife;

2. Potential effects that the alternatives could have on other aspects of the human environment, including ecological, aesthetic, historic, cultural, economic, social, environmental justice, or health effects;

3. Other possible reasonable alternatives that the NPS should consider, including additional or alternative avoidance, minimization, and mitigation measures;

4. Other information relevant to the Bison Management Plan and its impacts on the human environment.

Submitting Comments

If you wish to comment, you may submit comments by the methods listed above in the ADDRESSES section. Comments will not be accepted by fax, email, or by any method other than those specified above. Bulk comments in any format (hard copy or electronic) submitted on behalf of others will not be accepted. Comments must be provided prior to the close of the comment period and should clearly articulate the reviewer's concerns and contentions.

Public Availability of Comments

Before including your address, phone number, email address, or other personal identifying information in your comment, you should be aware that your entire comment—including your personal identifying information—may be made publicly available at any time. While you can ask us in your comment to withhold your personal identifying information from public review, we cannot guarantee that we will be able to do so. Comments submitted anonymously will be accepted and considered.

Cooperating Agencies

• U.S. Forest Service, Custer Gallatin National Forest

• Animal and Plant Health Inspection Service

• State of Montana (Montana Department of Livestock, Montana Fish, Wildlife & Parks)

• Nez Perce Tribe

• Intertribal Buffalo Council

• Confederated Salish and Kootenai Tribes

Yellowstone National Park has also invited the following tribes with treaty hunting rights to participate as cooperating agencies (responses are forthcoming): Blackfeet Tribe of the Blackfeet Indian Reservation of Montana, Confederated Tribes of the Umatilla Indian Reservation, Crow Tribe of Montana, Northern Arapaho Tribe of the Wind River Reservation, Shoshone-Bannock Tribes of the Fort Hall Reservation, and the Yakama Nation.

Decision Maker

The Decision Maker is the NPS Regional Director for Interior Regions 6, 7, and 8.

Termination of 2015 EIS Process

This notice also terminates the EIS for a Management Plan for Yellowstone-area Bison initiated by the NPS on March 16, 2015 (80 FR 13603-13604).

Authority: 42 U.S.C. et seq.

Michael Reynolds,
Regional Director, Interior Regions 6, 7, & 8.

[FR Doc. 2022-01865 Filed 1-27-22; 8:45 am]

BILLING CODE 4312-52-P